CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Assessing the Impact of Training and Technical Assistance (TTA) for review and approval in accordance with the Paperwork Reduction Act of 1995, Public Law 104-13, (44 U.S.C. Chapter 35). Copies of this ICR, with applicable supporting documentation, may be obtained by calling CNCS, Marlene Zakai, at 202-606-6692 or email to mzakai@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for CNCS, by any of the following two methods within 30 days from the date of publication in the Federal Register:

(1) By fax to (202) 395-6974, Attention: Ms. Sharon Mar, OMB Desk Officer; and

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are expected to respond, including the use of appropriate automated, electronic, mechanical, or other technological collection techniques or other forms of information technology (e.g., permitting electronic submissions of responses).

Comments

A 60-day public comment Notice was published in the Federal Register on January 16, 2013. This comment period ended February 8, 2013. CNCS received three public comments asking how CNCS intends to use the data and another question asking if CNCS will require commissions to use the same information collection to assess commission-sponsored trainings. In addition, a corrected answer was submitted for one of the questions on the sample assessment instrument. Responses to the questions raised during the public comment period are covered in the attached Data Collection Protocol. Requirements for external parties, including state commissions, to participate in this information collection will be outlined in future requests for proposals and notices of funding opportunity. The final proposed assessment questions are attached and correct answers identified for each item.

Description: CNCS is seeking approval of Assessing the Impact of Training and Technical Assistance which will be used by CNCS sponsors of trainings to evaluate the knowledge gains of participants for the purposes of determining the value of the TTA investment and to improve the quality of training.

Type of Review: New.

Agency: Corporation for National and Community Service.

Title: Assessing the Impact of Training and Technical Assistance.

OMB Number: New.

Agency Number: None.

Affected Public: Current/prospective training and technical assistance providers and participants.

Total respondents: 10,000.

Frequency: Annually.

Average Time per Response: Five minutes for the pre-test and 5 minutes for the post-test for a total of 10 minutes.

Estimated Total Burden Hours: 1666.67 hours.

Total Burden Cost (capital/startup): None.

Total Burden Cost (operating/maintenance): None.

Dated: July 3, 2013.
Marlene Zakai,
Director, Strategic Initiatives.

[FR Doc. 2013-16595 Filed 7-9-13; 8:45 am]

BILLING CODE 6050-28-P